DEPARTMENT OF COMMERCE

National Institute of Standards and Technology

National Fire Protection Association (NFPA) Proposes To Revise Codes and Standards

AGENCY: National Institute of Standards and Technology, Commerce.

ACTION: Notice.

SUMMARY: The National Fire Protection Association (NFPA) proposes to revise some of its safety codes and standards and requests proposals from the public to amend existing or begin the process of developing new NFPA safety codes and standards. The purpose of this request is to increase public participation in the system used by NFPA to develop its codes and standards. The publication of this notice of request for proposals by the National Institute of Standards and Technology (NIST) on behalf of NFPA is being undertaken as a public service; NIST does not necessarily endorse, approve, or recommend any of the standards referenced in the notice.

The NFPA process provides ample opportunity for public participation in the development of its codes and standards. All NFPA codes and standards are revised and updated every three to five years in Revision Cycles that begin twice each year and take approximately two years to complete. Each Revision Cycle proceeds according to a published schedule that includes final dates for all major events in the process. The code revision Process contains five basic steps that are followed for developing new documents as well as revising existing documents: Call for Proposals; Publishing the Report on Proposals (ROP); Call for Comments on the Committee's disposition of the Proposals and publication of these Comments in the Report on Comments (ROC); the Association Technical Meeting at the NFPA Conference & Expo; and finally, the Standards Council Consideration and Issuance of documents.

Note: Anyone wishing to make Amending Motions on the Technical Committee Reports (ROP and ROC) must signal his or her intention by submitting a Notice of Intent to Make a Motion by the Deadline stated in the ROC. Certified motions will then be posted on the NFPA Web site. Documents that receive notice of proper Amending Motions (Certified Amending Motions) will be presented for action at the annual June Association Technical Meeting. Documents that receive no motions will be forwarded directly to the Standards Council for action on issuance.

For more information on these new rules and for up-to-date information on schedules and deadlines for processing NFPA Documents, check the NFPA Web site at http://www.nfpa.org, or contact NFPA Codes and Standards Administration.

DATES: Interested persons may submit proposals on or before the dates listed with the standards.

ADDRESSES: Amy Beasley Cronin, Secretary, Standards Council, NFPA, 1 Batterymarch Park, Quincy, Massachusetts 02169-7471.

FOR FURTHER INFORMATION CONTACT: Amy Beasley Cronin, Secretary, Standards Council, at above address, (617) 770-3000.

SUPPLEMENTARY INFORMATION:

Background

The National Fire Protection Association (NFPA) develops building, fire, and electrical safety codes and standards. Federal agencies frequently use these codes and standards as the basis for developing Federal regulations concerning safety. Often, the Office of the Federal Register approves the incorporation by reference of these standards under 5 U.S.C. 552(a) and 1 CFR Part 51.

When a Technical Committee begins the development of a new or revised NFPA code or standard, it enters one of two Revision Cycles available each year. The Revision Cycle begins with the Call for Proposals, that is, a public notice asking for any interested persons to submit specific written proposals for developing or revising a code or standard. The Call for Proposals is published in a variety of publications. Interested parties have approximately twenty weeks to respond to the Call for Proposals.

Following the Call for Proposals period, the Technical Committee holds a meeting to consider and accept, reject or revise, in whole or in part, all the submitted Proposals. The committee may also develop its own Proposals. A document known as the Report on Proposals, or ROP, is prepared containing all the Public Proposals, the Technical Committees' action on each Proposal, as well as all Committee-generated Proposals. The ROP is then submitted for the approval of the Technical Committee by a formal written ballot. If the ROP does not receive approval by a two-thirds vote calculated in accordance with NFPA rules, the Report is returned to the committee for further consideration and is not published. If the necessary approval is received, the ROP is published in a compilation of Reports on Proposals issued by NFPA twice yearly for public review and comment, and the process continues to the next step.

The Reports on Proposals are sent automatically free of charge to all who submitted Proposals and each Committee member, as well as anyone else who requests a copy. All ROPs are also available for free downloading at http://www.nfpa.org.

Once the ROP becomes available, there is a 60-day comment period during which anyone may submit a Public Comment on the proposed changes in the ROP. The Committee then reconvenes at the end of the comment period and acts on all Comments.

As before, a two-thirds approval vote by written ballot of the eligible members of the Committee is required for approval of actions on the Comments. All of this information is compiled into a second report, called the Report on Comments (ROC), which, like the ROP, is published, and is made available for public review for a seven-week period.

The process of public input and review does not end with the publication of the ROP and ROC. Following the completion of the Proposal and Comment periods, there is a further opportunity for debate and discussion through the Association Technical Meeting that take place at the NFPA Conference & Expo.

The Association Technical Meeting provides an opportunity for the final Technical Committee Report (i.e., the ROP and ROC) on each proposed new or revised code or standard to be presented to the NFPA membership for the debate and consideration of motions to amend the Report. Before making an allowable motion at an Association Technical Meeting, the intended maker of the motion must file, in advance of the session, and within the published deadline, a Notice of Intent to Make a Motion. A Motions Committee appointed by the Standards Council then reviews all notices and certifies all amending motions that are proper. Only these Certified Amending Motions, together with certain allowable Follow-Up Motions (that is, motions that have become necessary as a result of previous successful amending motions) will be allowed at the Association Technical Meeting.

For more information on dates/locations of NFPA Technical Committee meetings and NFPA Annual Association Technical Meeting, check the NFPA Web site at: http://www.nfpa.org/itemDetail.asp?categoryID=822&itemID=22818.

The specific rules for the types of motions that can be made are who can make them are set forth in NFPA's Regulation Governing Committee Projects which should always be consulted by those wishing to bring an issue before the membership at an Association Technical Meeting.

Interested persons may submit proposals, supported by written data, views, or arguments, to Amy Beasley Cronin, Secretary, Standards Council, NFPA, 1 Batterymarch Park, Quincy, Massachusetts 02169-7471. Proposals should be submitted on forms available from the NFPA Codes and Standards Administration Office, or from NFPA's Web site at http://www.nfpa.org.

Each person must include his or her name and address, identify the code or standard, and give reasons for the proposal. Proposals received by 5 p.m. EDT/EDST on or before the closing date indicated with each code or standard would be acted on by the respective Committee, and then considered by the NFPA Membership at the Association Technical Meeting.

Document— Edition | Document title | Proposal closing date
NFPA 17—2009 | Standard for Dry Chemical Extinguishing Systems | 5/23/2011
NFPA 17A—2009 | Standard for Wet Chemical Extinguishing Systems | 5/23/2011
NFPA 20—2010 | Standard for the Installation of Stationary Pumps for Fire Protection | 11/23/2010
NFPA 36—2009 | Standard for Solvent Extraction Plants | 5/23/2011
NFPA 51—2007 | Standard for the Design and Installation of Oxygen-Fuel Gas Systems for Welding, Cutting, and Allied Processes | 11/23/2010
NFPA 52—2010 | Vehicular Gaseous Fuel Systems Code | 5/23/2011
NFPA 55—2010 | Compressed Gases and Cryogenic Fluids Code | 11/23/2010
NFPA 61—2008 | Standard for the Prevention of Fires and Dust Explosions in Agricultural and Food Processing Facilities | 11/23/2010
NFPA 70B—2010 | Recommended Practice for Electrical Equipment Maintenance | 5/23/2011
NFPA 72—2010 | National Fire Alarm and Signaling Code | 11/5/2010
NFPA 77—2007 | Recommended Practice on Static Electricity | 5/23/2011
NFPA 80—2010 | Standard for Fire Doors and Other Opening Protectives | 11/23/2010
NFPA 101A—2010 | Guide on Alternative Approaches to Life Safety | 11/23/2010
NFPA 105—2010 | Standard for the Installation of Smoke Door Assemblies and Other Opening Protectives | 11/23/2010
NFPA 110—2010 | Standard for Emergency and Standby Power Systems | 11/23/2010
NFPA 111—2010 | Standard on Stored Electrical Energy Emergency and Standby Power Systems | 11/23/2010
NFPA 130—2010 | Standard for Fixed Guideway Transit and Passenger Rail Systems | 11/23/2010
NFPA 140—2008 | Standard on Motion Picture and Television Production Studio Soundstages, Approved Production Facilities, and Production Locations | 5/23/2011
NFPA 225—2009 | Model Manufactured Home Installation Standard | 5/23/2011
NFPA 259—2008 | Standard Test Method for Potential Heat of Building Materials | 5/23/2011
NFPA 260—2009 | Standard Methods of Tests and Classification System for Cigarette Ignition Resistance of Components of Upholstered Furniture | 5/23/2011
NFPA 261—2009 | Standard Method of Test for Determining Resistance of Mock-Up Upholstered Furniture Material Assemblies to Ignition by Smoldering Cigarettes | 5/23/2011
NFPA 270—2008 | Standard Test Method for Measurement of Smoke Obscuration Using a Conical Radiant Source in a Single Closed Chamber | 5/23/2011
NFPA 274—2009 | Standard Test Method to Evaluate Fire Performance Characteristics of Pipe Insulation | 5/23/2011
NFPA 289—2009 | Standard Method of Fire Test for Individual Fuel Packages | 5/23/2011
NFPA 290—2009 | Standard for Fire Testing of Passive Protection Materials for Use on LP-Gas Containers | 5/23/2011
NFPA 301—2008 | Code for Safety to Life from Fire on Merchant Vessels | 11/23/2010
NFPA 400—2010 | Hazardous Materials Code | 11/23/2010
NFPA 402—2008 | Guide for Aircraft Rescue and Fire-Fighting Operations | 10/8/2010
NFPA 415—2008 | Standard on Airport Terminal Buildings, Fueling Ramp Drainage, and Loading Walkways | 11/23/2010
NFPA 424—2008 | Guide for Airport/Community Emergency Planning | 10/8/2010
NFPA 450—2009 | Guide for Emergency Medical Services and Systems | 11/23/2010
NFPA 472—2008 | Standard for Competence of Responders to Hazardous Materials/Weapons of Mass Destruction Incidents | 11/23/2010
NFPA 473—2008 | Standard for Competencies for EMS Personnel Responding to Hazardous Materials/Weapons of Mass Destruction Incidents | 11/23/2010
NFPA 495—2010 | Explosive Materials Code | 5/23/2011
NFPA 496—2008 | Standard for Purged and Pressurized Enclosures for Electrical Equipment | 5/23/2011
NFPA 498—2010 | Standard for Safe Havens and Interchange Lots for Vehicles Transporting Explosives | 5/23/2011
NFPA 501A—2009 | Standard for Fire Safety Criteria for Manufactured Home Installations, Sites, and Communities | 5/23/2011
NFPA 501—2010 | Standard on Manufactured Housing | 5/23/2011
NFPA 555—2009 | Guide on Methods for Evaluating Potential for Room Flashover | 11/23/2010
NFPA 705—2009 | Recommended Practice for a Field Flame Test for Textiles and Films | 5/23/2011
NFPA 909—2010 | Code for the Protection of Cultural Resources Properties—Museums, Libraries, and Places of Worship | 5/23/2011
NFPA 1001—2008 | Standard for Fire Fighter Professional Qualifications | 11/23/2010
NFPA 1122—2008 | Code for Model Rocketry | 11/23/2010
NFPA 1127—2008 | Code for High Power Rocketry | 11/23/2010
NFPA 1144—2008 | Standard for Reducing Structure Ignition Hazards from Wildland Fire | 11/23/2010
NFPA 1221—2010 | Standard for the Installation, Maintenance, and Use of Emergency Services Communications Systems | 11/23/2010
NFPA 1404—2006 | Standard for Fire Service Respiratory Protection Training | 5/23/2011
NFPA 1500—2007 | Standard on Fire Department Occupational Safety and Health Program | 11/23/2010
NFPA 1582—2007 | Standard on Comprehensive Occupational Medical Program for Fire Departments | 11/23/2010
NFPA 1851—2008 | Standard on Selection, Care, and Maintenance of Protective Ensembles for Structural Fire Fighting and Proximity Fire Fighting | 11/30/2010

* Proposed NEW document drafts are available from NFPA's Web site— http://www.nfpa.org, or may be obtained from NFPA's Codes and Standards Administration, 1 Batterymarch Park, Quincy, Massachusetts 02169-7471.

Dated: October 22, 2010.
Harry S. Hertz,
Director, Baldrige Performance Excellence Program.

[FR Doc. 2010-27434 Filed 10-28-10; 8:45 am]

BILLING CODE 3510-13-P